DEPARTMENT OF TRANSPORTATION

Federal Aviation Administration

14 CFR Part 39

[Docket No. FAA-2007-27339; Directorate Identifier 2006-NM-280-AD]

RIN 2120-AA64

Airworthiness Directives; McDonnell Douglas Model DC-10-10 and DC-10-10F Airplanes, Model DC-10-15 Airplanes, Model DC-10-30 and DC-10-30F (KC-10A and KDC-10) Airplanes, Model DC-10-40 and DC-10-40F Airplanes, Model MD-10-10F and MD-10-30F Airplanes, and Model MD-11 and MD-11F Airplanes

AGENCY: Federal Aviation Administration (FAA), Department of Transportation (DOT).

ACTION: Notice of proposed rulemaking (NPRM).

SUMMARY: The FAA proposes to adopt a new airworthiness directive (AD) for certain transport category airplanes identified above. This proposed AD would require modifying the fuel boost pumps. This proposed AD results from a fuel boost pump found with blown thermal fuses and a fractured thrust washer. We are proposing this AD to prevent failure of the fuel boost pumps, which could lead to the potential of ignition sources inside fuel tanks. This condition, in combination with flammable fuel vapors, could result in fuel tank explosions and consequent loss of the airplane.

DATES: We must receive comments on this proposed AD by April 12, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for the service information identified in this proposed AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to submit any relevant written data, views, or arguments regarding this proposed AD. Send your comments to an address listed in the ADDRESSES section. Include the docket number “FAA-2007-27339; Directorate Identifier 2006-NM-280-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that an operator found a fuel boost pump with blown thermal fuses and a fractured thrust washer. Investigation revealed that the fractured Stellite thrust washer led to arcing damage to the rotor assembly shaft and stator end windings. Stellite thrust washers are used in the rotor assembly of fuel boost pumps, part numbers (P/Ns) 60-847-1A, -2, and -3. Failure of the fuel boost pumps, if not corrected, could lead to the potential of ignition sources inside fuel tanks. This condition, in combination with flammable fuel vapors, could result in fuel tank explosions and consequent loss of the airplane.

Relevant Service Information

We have reviewed the following service bulletins:

• Boeing Alert Service Bulletin DC10-28A254, dated September 8, 2006, for McDonnell Douglas Model DC-10-10 and DC-10-10F airplanes, Model DC-10-15 airplanes, Model DC-10-30 and DC-10-30F (KC-10A and KDC-10) airplanes, Model DC-10-40 and DC-10-40F airplanes, and Model MD-10-10F and MD-10-30F airplanes.

• Boeing Alert Service Bulletin MD11-28A134, dated September 8, 2006, for McDonnell Douglas Model MD-11 and MD-11F airplanes.

Boeing Alert Service Bulletin DC10-28A254 describes procedures for modifying fuel boost pumps, P/Ns 60-847-1A, -2, and -3. The modification involves replacing the pump assembly connector, washers, screws, and other hardware with new parts, upgrading the rotor assembly, inspecting the stator assembly wire leads, and rerouting the stator-to-connector wire leads. Boeing Alert Service Bulletin MD11-28A134 describes procedures for modifying fuel boost pumps, P/Ns 60-847-2 and -3. Accomplishing the actions specified in the service information is intended to adequately address the unsafe condition.

The Boeing service bulletins refer to Crane Hydro-Aire Service Bulletin 60-847-28-3, dated May 1, 2006, as an additional source of service information for modifying the fuel boost pumps, P/Ns 60-847-1A, -2, and -3. (The modification converts these parts to P/N 60-847-4.)

Crane Hydro-Aire Service Bulletin 60-847-28-3 specifies prior accomplishment of Crane Hydro-Aire Service Bulletin 60-847-1A-28-6, dated February 15, 1973, for fuel boost pump P/N 60-847-1A. Crane Hydro-Aire Service Bulletin 60-847-28-3 also specifies prior accomplishment of Crane Hydro-Aire Service Bulletin 60-847-3-28-13, dated March 17, 1975, for fuel boost pump P/N 60-847-2.

FAA's Determination and Requirements of the Proposed AD

We have evaluated all pertinent information and identified an unsafe condition that is likely to exist or develop on other airplanes of this same type design. For this reason, we are proposing this AD, which would require accomplishing the actions specified in the service information described previously.

Costs of Compliance

There are about 512 airplanes of the affected design in the worldwide fleet. This proposed AD would affect about 360 airplanes of U.S. registry. The proposed modification would take about 3 work hours per fuel boost pump, at an average labor rate of $80 per work hour. Required parts would cost about $640 per fuel boost pump. Depending on the airplane configuration, there are between 10 and 19 fuel boost pumps per airplane. Based on these figures, the estimated cost of the proposed AD for U.S. operators is between $3,168,000 and $6,019,200, or between $8,800 and $16,720 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2007-27339; Directorate Identifier 2006-NM-280-AD.

Comments Due Date

(a) The FAA must receive comments on this AD action by April 12, 2007.

Affected ADs

(b) None.

Applicability

(c) This AD applies to the airplanes identified in paragraphs (c)(1) and (c)(2) of this AD, certificated in any category.

(1) McDonnell Douglas Model DC-10-10 and DC-10-10F airplanes, Model DC-10-15 airplanes, Model DC-10-30 and DC-10-30F (KC-10A and KDC-10) airplanes, Model DC-10-40 and DC-10-40F airplanes, and Model MD-10-10F and MD-10-30F airplanes; as identified in Boeing Alert Service Bulletin DC10-28A254, dated September 8, 2006.

(2) McDonnell Douglas Model MD-11 and MD-11F airplanes, as identified in Boeing Alert Service Bulletin MD11-28A134, dated September 8, 2006.

Unsafe Condition

(d) This AD results from a fuel boost pump found with blown thermal fuses and a fractured thrust washer. We are issuing this AD to prevent failure of the fuel boost pumps, which could lead to the potential of ignition sources inside fuel tanks. This condition, in combination with flammable fuel vapors, could result in fuel tank explosions and consequent loss of the airplane.

Compliance

(e) You are responsible for having the actions required by this AD performed within the compliance times specified, unless the actions have already been done.

Service Bulletin Reference Paragraph

(f) The term “service bulletin,” as used in this AD, means the following service bulletins, as applicable:

(1) For the airplanes identified in paragraph (c)(1) of this AD, Boeing Alert Service Bulletin DC10-28A254, dated September 8, 2006.

(2) For the airplanes identified in paragraph (c)(2) of this AD, Boeing Alert Service Bulletin MD11-28A134, dated September 8, 2006.

Note 1: Boeing Alert Service Bulletin DC10-28A254, dated September 8, 2006; and Boeing Alert Service Bulletin MD11-28A134, dated September 8, 2006; refer to Crane Hydro-Aire Service Bulletin 60-847-28-3, dated May 1, 2006, as an additional source of service information for accomplishing the modification in paragraph (g) of this AD.

Modification

(g) At the applicable compliance time specified in paragraph (g)(1) or (g)(2) of this AD, modify the fuel boost pumps having part numbers 60-847-1A, -2, and -3, in accordance with the Accomplishment Instructions of the applicable service bulletin.

(1) For fuel boost pumps identified as Configuration 1 or 2 in Table 1 of paragraph 1.E. of the applicable service bulletin, do the modification within 120 months after the effective date of this AD.

(2) For fuel boost pumps identified as Configuration 3 in Table 1 of paragraph 1.E. of the applicable service bulletin, do the modification within 72 months after the effective date of this AD.

Alternative Methods of Compliance (AMOCs)

(h)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on February 16, 2007.
Ali Bahrami,
Manager, Transport Airplane Directorate, Aircraft Certification Service.

[FR Doc. E7-3166 Filed 2-23-07; 8:45 am]

BILLING CODE 4910-13-P